DEPARTMENT OF ENERGY

Federal Energy Regulatory Commission

[Docket No. CP18-39-000; CP18-40-000]

Notice of Schedule for Environmental Review of the Questar Southern Trail Pipeline Company Southern Trail Pipeline Abandonment Project; Navajo Tribal Utility Authority

On December 22, 2017, Questar Southern Trail Pipeline Company (Questar) filed an application in Docket No. CP18-39-000 requesting permission pursuant to section 7(b) of the Natural Gas Act to abandon all of its certificated facilities, part by sale to Navajo Tribal Utility Authority and part in place. The proposed Southern Trail Pipeline Abandonment Project (Project) includes the abandonment of about 488 miles of natural gas pipeline and related facilities located in California, Arizona, Utah, and New Mexico.

On December 22, 2017, the Navajo Tribal Utility Authority filed a related application in Docket No. CP18-40-000 requesting a service area determination pursuant to section 7(f) of the Natural Gas Act to utilize those acquired facilities to provide to its own service.

On January 3, 2018, the Federal Energy Regulatory Commission (Commission or FERC) issued its Notice of Applications for the proposals. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 25, 2018

90-day Federal Authorization Decision Deadline—July 24, 2018

If a schedule change becomes necessary, additional notice will be provided so that the relevant agencies are kept informed of the Project's progress.

Project Description

Questar proposes to abandon about 488 miles of natural gas pipeline and related facilities located in California, Arizona, Utah, and New Mexico. About 220 miles proposed for abandoned in place are in San Bernardino County, California and Mohave, Yavapai, Coconino and Apache Counties, Arizona. About 268 miles would be abandoned by sale are in Coconino, Navajo and Apache Counties, Arizona; San Yuan County, New Mexico and San Yuan County, Utah.

Background

On February 8, 2018, the Commission issued a Notice of Intent to Prepare an Environmental Assessment for the Proposed Southern Trail Pipeline Abandonment Project (Project) and Request for Comments on Environmental Issues (NOI). The NOI was sent to affected landowners; federal, state, and local government agencies; elected officials; environmental and public interest groups; Native American tribes; other interested parties; and local libraries and newspapers. In response to the NOI, the Commission received comments from the U.S. Environmental Protection Agency and one landowner (Atkinson Trading Company). The primary issues raised by the commentors are purpose and need; water resources; fish and wildlife; cultural resources and tribal consultation; air quality and noise; impacts on landowners, including eminent domain; cumulative impacts; and alternatives.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-39 and CP18-40), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 3, 2018.
Kimberly D. Bose,
Secretary.

[FR Doc. 2018-07134 Filed 4-6-18; 8:45 am]

BILLING CODE 6717-01-P